FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 30, 2012.

A. Federal Reserve Bank of Chicago (Colette A. Fried, Assistant Vice President) 230 South LaSalle Street, Chicago, Illinois 60690-1414:

1. The Sindt Family which consists of Darold, Paulette, and Derrick Sindt, all of Keystone, Iowa, and John and Krissa Sindt, Fairfax, Iowa; together as a group acting in concert, to acquire voting shares of Keystone Community Bancorporation, and thereby indirectly acquire voting shares of Keystone Savings Bank, both in Keystone, Iowa.

B. Federal Reserve Bank of Minneapolis (Jacqueline G. King, Community Affairs Officer) 90 Hennepin Avenue, Minneapolis, Minnesota 55480-0291:

1. Robert B. Flood, Jr., Marquette, Michigan; Susan Flood-Dziubinski; together with Susan J. Flood Revocable Living Trust, Susan J. Flood-Dziubinski trustee; Mary Ann Flood Revocable Living Trust, all of Crystal Falls, Michigan; Robert B. Flood, Jr., and Susan J. Flood-Dziubinski, co-trustees; James Flood, Medford, Wisconsin; Lisa Flood, Marquette, Michigan; Mark A. Flood; and Mark A. Flood Revocable Trust, both of Iron Mountain, Michigan; Mark A. Flood, trustee as a group acting in concert, to acquire voting shares of C.F.C. Bancorp, Inc., and thereby indirectly acquire voting shares of First National Bank of Crystal Falls, both in Crystal Falls, Michigan.

C. Federal Reserve Bank of Dallas (E. Ann Worthy, Vice President) 2200 North Pearl Street, Dallas, Texas 75201-2272:

1. James Leon Bradley, Sr., individually and as Trustee of the Bradley 2012 Irrevocable Trust; The Bradley 2012 Irrevocable Trust; Diana McBay Bradley, James Leon Bradley, Jr.; and Christopher Richard Bradley, all of Groesbeck, Texas; and Bryan Lee Bradley, Wortham, Texas; to retain voting shares of Groesbeck Bancshares, Inc., and thereby indirectly retain voting shares of Farmers State Bank, both in Groesbeck, Texas.

Board of Governors of the Federal Reserve System, October 10, 2012.
Robert deV. Frierson,
Secretary of the Board.

[FR Doc. 2012-25325 Filed 10-15-12; 8:45 am]

BILLING CODE 6210-01-P